DEPARTMENT OF ENERGY

Federal Energy Regulatory Commission

Notice of Commission Staff Attendance

The Federal Energy Regulatory Commission (Commission) hereby gives notice that members of the Commission's staff may attend the following meeting related to the transmission planning activities of Avista Corporation, Puget Sound Energy, Inc., and MATL LLP (together, ColumbiaGrid Public Utilities):

ColumbiaGrid Planning Meeting including Final System Assessment Report and Order No. 1000 Needs Statements

August 20, 2015, 9:00 a.m.-3:00 p.m. (PST)

The above-referenced meeting will be held at: ColumbiaGrid, 8338 NE Alderwood Road, Suite 140, Portland, OR 97220.

The above-referenced meeting also will be available via web conference and teleconference.

The above-referenced meeting is open to stakeholders.

Further information may be found at http://www.columbiagrid.org/event-details.cfm?EventID=1009.

The discussions at the meeting described above may address matters at issue in the following proceedings:

Docket No. ER13-94, Avista Corporation.

Docket No. ER15-422, Avista Corporation.

Docket No. ER13-99, Puget Sound Energy, Inc.

Docket No. ER15-429, Puget Sound Energy, Inc.

Docket No. ER13-836, MATL LLP.

Docket No. EL15-74, Coalition of Eastside Neighborhoods for Sensible Energy et al v. Puget Sound Energy et al.

For more information, contact Franklin Jackson, Office of Energy Market Regulation, Federal Energy Regulatory Commission at (202) 502-6464 or Franklin.Jackson@ferc.gov.

Dated: August 10, 2015.
Nathaniel J. Davis, Sr.,
Deputy Secretary.

[FR Doc. 2015-20069 Filed 8-13-15; 8:45 am]

BILLING CODE 6717-01-P